NUCLEAR REGULATORY COMMISSION

Application for A License to Export

Radioactive Waste

Pursuant to 10 CFR 110.70(b)(4) “Public notice of receipt of an application,” please take notice that the Nuclear Regulatory Commission has received the following application for an export license. Copies of the application are available electronically through ADAMS and can be accessed through the Public Electronic Reading Room (PERR) link <http://www.nrc.gov/NRC/ADAMS/index.html> at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington D.C. 20555; the Secretary, U.S. Nuclear Regulatory Commission, Washington, D.C. 20555; and the Executive Secretary, U.S. Department of State, Washington, D.C. 20520.

The information concerning the application follows.

NRC EXPORT LICENSE APPLICATION
Name of applicant Date of application Date received Application Number | Description of material: Material type | Description of material: Total qty | Description of material: End use | Description of material: Country of destination
Framatome ANP Richland, Inc. July 26, 2001 XW007 | Radioactive waste | 60 kilograms Uranium and 3.0 kilograms Uranium-235 (5% maximum U-235) | Uranium will be removed and disposed of as waste at AECL Chalk River Ontario, disposal site. The zirconium and molybdenum will be processed for recycling
July 26, 2001 kilograms | 150,000.0 Zirconium tubing; 25,000.0 kilograms Molybdenum metal pieces contaminated with low-enriched uranium | Canada

Dated this 15th day of August 2001 at Rockville, Maryland.
For The Nuclear Regulatory Commission.
Ronald D. Hauber,
Deputy Director, Office of International Programs.

[FR Doc. 01-21286 Filed 8-22-01; 8:45 am]

BILLING CODE 7590-01-P